DEPARTMENT OF COMMERCE

International Trade Administration

[C-570-189, C-557-833]

Float Glass Products From the People's Republic of China and Malaysia: Postponement of Preliminary Determinations in the Countervailing Duty Investigations

AGENCY: Enforcement and Compliance, International Trade Administration, Department of Commerce.

DATES: Applicable February 20, 2025.

FOR FURTHER INFORMATION CONTACT: Nathan James at (202) 482-5305, Office V (the People's Republic of China (China)); Mira Warrier at (202) 482-8031 or Benjamin Nathan at (202) 482-3834, Office II (Malaysia), AD/CVD Operations, Enforcement and Compliance, International Trade Administration, U.S. Department of Commerce, 1401 Constitution Avenue NW, Washington, DC 20230.

SUPPLEMENTARY INFORMATION:

Background

On December 31, 2024, the U.S. Department of Commerce (Commerce) initiated the countervailing duty (CVD) investigations of imports of float glass products from China and Malaysia.¹ Currently, the preliminary determinations in these investigations are due no later than March 6, 2025.

¹ See Float Glass Products from the People's Republic of China and Malaysia: Initiation of the Countervailing Duty Investigations, 90 FR 1443 (January 8, 2025).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination in a CVD investigation until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 4, 2025, the petitioner ² in these CVD investigations timely requested that Commerce postpone the preliminary determinations.³ The petitioner requested postponement of the preliminary determinations so that Commerce can fully analyze the forthcoming questionnaire responses of the mandatory respondents and issue supplemental questionnaires, as necessary, prior to the issuance of the preliminary determinations.⁴

² The petitioner is Vitro Flat Glass, LLC and Vitro Meadville Flat Glass, LLC.

³ See Petitioner's Letter, “Request to Extend Preliminary Determination,” dated February 4, 2025.

⁴ Id.

In accordance with 19 CFR 351.205(e), the petitioner submitted its request for postponement of the preliminary determinations in these investigations 25 days or more before the scheduled date of the preliminary determinations and stated the reasons for its request. Accordingly, Commerce finds no compelling reason to deny the request. Therefore, in accordance with section 703(c)(1)(A) of the Act, Commerce is postponing the deadline for the preliminary determinations in these investigations to no later than 130 days after the date on which it initiated these investigations, i.e., May 12, 2025.⁵ Pursuant to section 705(a)(1) of the Act and 19 CFR 351.210(b)(1), the deadline for the final determinations of these investigations will continue to be 75 days after the date of the preliminary determinations.

⁵ Because postponing the preliminary determinations to 130 days after initiation of these investigations makes the deadline fall on the weekend (i.e., Saturday, May 10, 2025), the deadline is the next business day (i.e., May 12, 2025). See Notice of Clarification: Application of “Next Business Day” Rule for Administrative Determination Deadlines Pursuant to the Tariff Act of 1930, as Amended, 70 FR 24533 (May 10, 2005).

Notification to Interested Parties

This notice is issued and published pursuant to section 703(c)(2) of the Act and 19 CFR 351.205(f)(1).

Dated: February 12, 2025.
Christopher Abbott,
Deputy Assistant Secretary for Policy and Negotiations, performing the non-exclusive functions and duties of the Assistant Secretary for Enforcement and Compliance.

[FR Doc. 2025-02840 Filed 2-19-25; 8:45 am]

BILLING CODE 3510-DS-P